FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011982.

Title: Evergreen Line Joint Service Agreement.

Parties: Evergreen Marine Corp. (Taiwan) Ltd., Hatsu Marine Ltd., and Italia Marittima S.p.A.

Filing Party: Paul M. Keane, Esq.; 61 Broadway; Suite 3000; New York, NY 10006-2802.

Synopsis: The agreement authorizes the parties to operate a joint service in all U.S. trades.

By order of the Federal Maritime Commission.
Dated: December 1, 2006.
Karen V. Gregory,
Assistant Secretary.

[FR Doc. E6-20661 Filed 12-5-06; 8:45 am]

BILLING CODE 6730-01-P